DEPARTMENT OF LABOR

Employment and Training Administration

Agency Information Collection Activities; Comment Request; Reemployment Services and Eligibility Assessments (RESEA) Quarterly Activity and Outcome Reports

ACTION: Notice.

SUMMARY: The Department of Labor's (DOL) Employment and Training Administration (ETA) is soliciting comments concerning a proposed extension for the authority to conduct the information collection request (ICR) titled, “Reemployment Services and Eligibility Assessments (RESEA) Quarterly Activity and Outcome Reports.” This comment request is part of continuing Departmental efforts to reduce paperwork and respondent burden in accordance with the Paperwork Reduction Act of 1995 (PRA).

DATES: Consideration will be given to all written comments received by July 14, 2025.

ADDRESSES: A copy of this ICR with applicable supporting documentation, including a description of the likely respondents, proposed frequency of response, and estimated total burden, may be obtained free by contacting Eric Davenport by telephone at 202-693-3146 (this is not a toll-free number), or by email at OUI-PRA@dol.gov. For persons with a hearing or speech disability who need assistance to use the telephone system, please dial 711 to access telecommunications relay services.

Submit written comments about, or requests for a copy of, this ICR by mail or courier to the U.S. Department of Labor, Employment and Training Administration, Office of Unemployment Insurance Room S-4524, 200 Constitution Ave. NW, Washington, DC 20210; or by email: OUI-PRA@dol.gov.

FOR FURTHER INFORMATION CONTACT: Eric Davenport by telephone at 202-693-3146 (this is not a toll-free number) or by email at OUI-PRA@dol.gov.

SUPPLEMENTARY INFORMATION: DOL, as part of continuing efforts to reduce paperwork and respondent burden, conducts a pre-clearance consultation program to provide the public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

The continued collection of information contained on the ETA 9128 (Reemployment and Eligibility Assessment Workload) and 9129 (Reemployment Services and Eligibility Assessment Outcomes) reports is necessary to enable ETA's Office of Unemployment Insurance to perform program oversight, target technical assistance to states, and assess the effectiveness of the RESEA program through workload and outcomes reports. Changes to the ETA 9128 Reemployment Services and Eligibility Assessment Workload report were approved by OMB on December 7, 2022, to capture information about Subsequent RESEA meetings (an optional but increasingly common RESEA service) and the number of claimants selected for RESEA that were determined prior to their scheduled RESEA meeting to have been incorrectly selected, otherwise ineligible for RESEA, or potentially fraudulent. The proposed renewal of this collection would continue the gathering of this information. 44 U.S.C. 3506(c)(2)(A) authorizes this information collection.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. To help ensure appropriate consideration, comments should mention OMB Control Number 1205-0456.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the Agency, including whether the information will have practical utility;

• Evaluate the accuracy of the Agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Extension without revision.

Title of Collection: Reemployment Services and Eligibility Assessments (RESEA) Quarterly Activity and Outcome Reports.

Form: ETA 9128 and ETA 9129.

OMB Control Number: 1205-0456.

Affected Public: State and Local Governments.

Estimated Number of Respondents: 53.

Frequency: Quarterly.

Total Estimated Annual Responses: 424

Estimated Average Time per Response: 5.82

Estimated Total Annual Burden Hours: 1,233.84 hours.

Total Estimated Annual Other Cost Burden: $0

Authority: 44 U.S.C. 3506(c)(2)(A).

Susan Frazier,
Acting Assistant Secretary for Employment and Training, Labor.

[FR Doc. 2025-08372 Filed 5-12-25; 8:45 am]

BILLING CODE 4510-FW-P